DEPARTMENT OF ENERGY

Federal Energy Regulatory Commission

[Project No. 1971-079]

Idaho Power Company; Notice of Settlement Agreement and Soliciting Comments

a. Type of Application: Settlement Agreement.

b. Project No.: 1971-079.

c. Date Filed: October 23, 2024.

d. Applicant: Idaho Power Company (Idaho Power).

e. Name of Project: Hells Canyon Hydroelectric Project (project).

f. Location: The project is located on the Snake River in Adams and Washington Counties, Idaho; and Baker, Wallowa, and Malheur Counties, Oregon. Federal lands administered by the U.S. Forest Service and the Bureau of Land Management (Payette and Wallowa-Whitman National Forests and Hells Canyon National Recreational Area) are included within the project boundary.

g. Filed Pursuant to: Rule 602 of the Commission's Rules of Practice and Procedure, 18 CFR 385.602.

h. Applicant Contact: Brett Dumas, Director of Environmental Affairs, Idaho Power Company, 1221 West Idaho Street, Boise, Idaho 83702; (208) 388-2330; BDumas@idahopower.com.

i. FERC Contact: Aaron Liberty, Project Coordinator, Midwest Branch, Division of Hydropower Licensing; (202) 502-6862; Aaron.Liberty@ferc.gov.

j. Deadline for Filing Comments: November 12, 2024. Reply comments due: November 22, 2024.

The Commission strongly encourages electronic filing. Please file comments using the Commission's eFiling system at https://ferconline.ferc.gov/FERCOnline.aspx. Commenters can submit brief comments up to 6,000 characters, without prior registration, using the eComment system at https://ferconline.ferc.gov/QuickComment.aspx. For assistance, please contact FERC Online Support at FERCOnlineSupport@ferc.gov, (866) 208-3676 (toll free), or (202) 502-8659 (TTY). In lieu of electronic filing, you may submit a paper copy. Submissions sent via the U.S. Postal Service must be addressed to: Debbie Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Hells Canyon Hydroelectric Project (P-1971-079).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. Idaho Power filed an Offer of Settlement Agreement on behalf of itself and the U.S. Forest Service (Forest Service) for the project's relicense proceeding. The purpose of the Settlement Agreement is to resolve, between the signatories, the appropriate terms and conditions pursuant to section 4(e) of the Federal Power Act to be incorporated into any new license issued for the project for the protection and utilization of federal lands administered by the Forest Service within and adjacent to the project boundary. Idaho Power, on behalf of the signatories, requests that the Commission: (1) consider the Settlement Agreement in the forthcoming supplemental environmental impact statement; (2) approve the Settlement Agreement; and (3) incorporate, without material modification, the terms of the Settlement Agreement, including the modified section 4(e) terms and conditions (as set forth in Exhibit 1 of the Settlement Agreement), in any new license issued for the project.

l. A copy of the Settlement Agreement is available for review on the Commission's website at http://www.ferc.gov using the “eLibrary” link. Enter the docket number, excluding the last three digits in the docket number field, to access the document (i.e., P-1971). For assistance, contact FERC at FERCOnlineSupport@ferc.gov or call toll free, (886) 208-3676 or TTY (202) 502-8659.

You may also register online at https://www.ferc.gov/ferc-online/overview to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 30, 2024.
Debbie-Anne A. Reese,
Secretary.

[FR Doc. 2024-26046 Filed 11-7-24; 8:45 am]

BILLING CODE 6717-01-P